DEPARTMENT OF HEALTH AND HUMAN SERVICES

Office of the Secretary

Office of Assistant Secretary for Administration and Management; Office of Budget, Technology and Finance; Statement of Organization, Functions, and Delegations of Authority

Part A, Office of the Secretary, Statement of Organization, Functions and Delegations of Authority for the Department of Health and Human Services (HHS) is being amended to Chapter AJ, “Office of the Assistant Secretary for Administration and Management (OASAM),” as last amended at 68 FR 36808-12, dated June 19, 2003; and Chapter AM, “Office of Budget, Technology and Finance (OBTF),” as last amended at 68 FR 57695-98, dated October 6, 2003. The amendment is to reflect the transfer of the grants management and policy function from OASAM to OBTF. The changes are as follows:

1. Under Chapter AJ, “Office of the Assistant Secretary for Administration and Management,” make the following changes:

A. Under Section AJ.00 Mission, delete all reference to the “grants” function.

B. Under Section AJ.10 Organization, delete the “Office of Grants Management and Policy (AJB).”

C. Under Section AJ.20 Functions, delete paragraph E, “Office of Grants Management and Policy (AJB),” in its entirety.

II. Under Chapter AM, “Office of Budget, Technology and Finance (OBTF),” make the following changes.

A. Under Section AM.00 Mission, delete in its entirety and replace with the following:

Section AM.00 Mission. The mission of the Office of Budget, Technology and Finance (OBTF) is to provide advice and guidance to the Secretary on budget, financial management, information technology, and grants management; and to provide for the direction and coordination of these activities throughout the Department.

B. Under Section AM.10 Organization, delete in its entirety and replace with the following:

Section AM.10 Organization: The Office of Budget, Technology, and Finance is headed by the Assistant Secretary for Budget, Technology and Finance (ASBTF). The Assistant Secretary for Budget, Technology, and Finance is the Departmental Chief Financial Officer (CFO), and reports to the Secretary. The office consists of the following components:

• Immediate Office of the ASBTF (AM)

• Office of Budget (AML)

• Office of Information Resources Management (AMM)

• Office of Finance (AMS)

• Office of Grants (AMT)

C. Under Section AM.20 Functions, add the following new paragraph:

E. Office of Grants (AMT)

Section AMT.00 Mission. The Office of Grants (OG) provides functional management directions in the areas of grants policy, grants management, electronic grants, and grants streamlining. Provides Department-wide leadership in these areas through policy development, oversight and training. Provides Departmental and government-wide leadership on PL106-107 implementation, Electronic Grants, and other HHS-led initiatives. Represents the Department in dealing with OMB, GSA and other Federal agencies and Congress in the areas of mandatory and discretionary grants, and electronic grants. Fosters creativity, collaboration, consolidation, and innovation in the administration of grants functions through the Department.

Section AMT.10 Organization. The Office of Grants (OG), is headed by a Deputy Assistant Secretary for Grants who reports directly to the Assistant Secretary for Budget, Technology and Finance, and consists of the following components:

• Immediate Office of Grants (AMT)

• Division of Grants Policy (AMT1)

• Division of Grants Oversight and Review (AMT2)

Section AMT.20 Functions

I. Immediate Office of Grants (AMT). The Immediate Office of Grants provides leadership, policy, and guidance and supervision, as well as coordinating long and short-range planning to constituent organizations. The office supports the government-wide electronic grants initiative, including the outreach to grantors and grantees efforts, and interface with OMB, Federal CIO Council, and HHS leadership on the Grants.gov systems. Also, provides technical assistance to the Operating Divisions and evaluates effectiveness of their grant programs, including the development of performance standards and grant processing systems.

2. Division on Grants Policy (AMT1). The Division of Grants Policy provides leadership in the area of grants through policy development, oversight and training. The Division is responsible for the following:

a. Formulates Department-wide grants policies governing the management of grants throughout the Department.

b. Provides advice and technical assistance on grants policy to the Department's Operating Divisions.

c. Monitors the adoption of grants policies by the Department's Operating Divisions to ensure consistent policy interpretation and application.

d. Develops, participates in and evaluates grants training programs for Department staff. Establishes and manages training and certification programs for grants management professionals throughout the Department.

e. Researches, analyzes and tests innovative ideas, techniques and policies in the area of grants. Makes studies of problems requiring creation of new policies or revision of current policies, including the application of Departmental policies and best practices related to the Department's grant activities; resolves issues arising from implementation of those policies; maintains relationships and associations with grantor and grantee organizations.

f. Serves as the Department's liaison in the area of grants and maintains working relationships with OMB, GSA and other Federal agencies to coordinate and assist in the development of policy.

g. Makes studies of problems requiring creation of new policies or revision of current policies.

h. Formulates Department-wide grant policies governing the award and administration of grant activities. Publishes these in regulations and other directives.

i. Leads government-wide and Departmental design and implementation of PL106-107 streamlining initiatives. Identifies ways to streamline grants processes and implements policies that foster streamlining and other best practices.

3. Division of Grants Oversight and Review (ATM2). The Division of Grants Oversight and Review provides leadership in the area of mandatory and discretionary grants through oversight and review. The Division has functional responsibility for reviewing grants for compliance with Department-wide grants policies and grant regulations. In addition, the Division is responsible for oversight of the HHS grants management operations and the following:

a. Manages oversight of the award and administration of mandatory and discretionary grants and other forms of Federal financial assistance throughout the Department.

b. Monitors the adoption of grant policies as they affect grant management procedures by the Department's Operating and Staff Divisions to ensure consistent implementation and operations.

c. Provides advice and technical assistance to the Department's Operating and Staff Divisions and to the general public on matters relating to the administration of grants and other forms of Federal financial assistance.

d. Conducts special studies of grants management issues to identify and implement improvements in the way the Department awards and administers grants and other forms of Federal financial assistance; and designs and assists in execution of demonstrations, experimentation and tests of innovative approaches to grants management.

e. Develops, analyzes and tests innovative ideas, techniques, and implementations in grants management. Fosters creativity in the administration of grants.

f. Establishes and manages improved grants management information and monitoring systems.

g. Conducts performance measurements of the Department's Grants System and operates the Department-wide grants reporting systems.

h. Provides advice and technical assistance on grants implementation and processes to the Department's Operating Divisions.

i. Oversees the implementation of grants function throughout the Department.

III. Continuation of Policy: Except as inconsistent with this reorganization, all statements of policy and interpretations with respect to the Office of the Assistance Secretary for Administration and Management and the Office of Budget, Technology and Finance heretofore issued and in effect prior to this reorganization are continued in full force and effect.

IV. Delegation of Authority: All delegations and redelegations of authority made to officials and employees of the Office of the Assistant Secretary for Administration and Management and the Office of Budget, Technology and Finance will continue in them or their successors pending further redelegation, provided they are consistent with this reorganization.

V. Funds, Personnel and Equipment: Transfer of organizations and functions affected by this reorganization shall be accompanied by direct and support funds, positions, personnel, records, equipment, supplies, and other sources.

Dated: April 1, 2005.
Ed Sontag,
Assistant Secretary for Administration and Management.

[FR Doc. 05-6934 Filed 4-6-05; 8:45 am]

BILLING CODE 4150-04-M